DEPARTMENT OF THE INTERIOR

Bureau of Reclamation

Red River Valley Water Supply Project, ND

AGENCY: Bureau of Reclamation, Interior.

ACTION: Notice of Availability of Supplemental Draft Environmental Impact Statement (SDEIS) and Announcement of Public Hearings.

SUMMARY: The Bureau of Reclamation published a notice in the Federal Register on December 30, 2005 (70 FR, 77425) informing the public of the availability of the Draft Environmental Impact Statement (DEIS) for the Red River Valley Water Supply Project. We are now notifying the public that Reclamation and the State of North Dakota have prepared a Supplemental DEIS in response to public comment and new information. It is now available for review and comment. The Supplemental DEIS provides new information and additional analyses related to water supply needs, water quality, Missouri River flow depletions, aquatic resources, social-economics, and the risk of transfer of potentially invasive species from the Missouri River into the Red River and Hudson Bay basins from potential treatment or conveyance failures. Alternatives considered in the 2005 DEIS have been revised, two have been eliminated from consideration, and a federally-preferred alternative has been identified in the Supplemental DEIS.

DATES: A 45-day public review period begins with the publication of this notice and ends on March 26, 2007. All comments on the Supplemental DEIS must be received by Reclamation on or before March 26, 2007 at the address provided below.

Four public hearings will be held:

• February 27, 2007, 7 p.m., Bismarck, ND

• February 28, 2007, 7 p.m., Fargo, ND

• March 1, 2007, 7 p.m., Fort Yates, ND

• March 2, 2007, 7 p.m., Fort Berthold (New Town), ND

ADDRESSES: Send comments on the Supplemental DEIS to: Red River Valley Water Supply Project EIS, Bureau of Reclamation, Dakotas Area Office, P.O. Box 1017, Bismarck, ND 58502.

Public Hearing Locations

• Bismarck, ND, Best Western Doublewood Inn, 1400 Interchange Ave., 58501.

• Fargo, ND, Ramada Plaza Suites and Conference Center, Brahms Room, 1635 42nd Street SW., 58103.

• Fort Yates, ND, Prairie Knights Casino and Resort, 7932 Highway 24, 58538-9736.

• New Town, ND, 4 Bears Casino and Lodge, Hidatsa/Arikara Room, 202 Frontage Road, 58763.

FOR FURTHER INFORMATION CONTACT: Ms. Signe Snortland, telephone: (701) 250-4242 extension 3619, or FAX to (701) 250-4326. You may submit e-mail comments to ssnortland@gp.usbr.gov or through the Red River Valley Water Supply Project Web site at http://www.rrvwsp.com.

SUPPLEMENTARY INFORMATION: The Supplemental DEIS is available for public inspection at the following locations:

Iowa

• Des Moines Public Library, 100 Locust Street, Des Moines, IA.

Kansas

• Topeka and Shawnee County Public Library, 1515 SW 10th Street, Topeka, KS.

Minnesota

• Breckenridge Public Library, 205 7th Street North, Breckenridge, MN.

• East Grand Forks Library, 422 4th Street Northwest, East Grand Forks, MN.

• Moorhead Public Library, 118 5th Street South, Moorhead, MN.

• Perham Public Library, 225 2nd Ave. NE, Perham, MN.

• Red Lake Band of Chippewa Indians, PO Box 550, Red Lake, MN.

• St. Paul Public Library, 90 West 4th Street, St. Paul, MN.

• Warroad City Library, 202 Main Ave. NW, Warroad, MN.

• White Earth Reservation, 26246 Crane Road, White Earth, MN.

Missouri

• Kansas City Public Library, 14 West 10th Street, Kansas City, MO

• Missouri River Regional Library, 214 Adams Street, Jefferson City, MO

Montana

• Bureau of Reclamation, Great Plains Regional Office, 316 N. 26th Street, Billings, MT.

Nebraska

• Lincoln City Libraries, 136 South 14th Street, Lincoln, NE.

North Dakota

• Alfred Dickey Public Library, 105 3rd Street SE, Jamestown, ND.

• Bureau of Indian Affairs, Turtle Mountain Agency, PO Box 60, Highway 5 West, Belcourt, ND.

• Bureau of Indian Affairs, Fort Berthold Agency, 202 Main Street, New Town, ND.

• Bureau of Indian Affairs, Fort Totten Agency, PO Box 270 / Main Street, Fort Totten, ND.

• Bureau of Reclamation, Dakotas Area Office, 304 E. Broadway Ave., Bismarck, ND.

• Fargo Public Library, 102 3rd Street North, Fargo, ND.

• Garrison Diversion Conservancy District, 401 Highway 281 NE, Carrington, ND.

• Grand Forks Public Library, 2110 Library Circle, Grand Forks, ND.

• Leach Public Library, 417 2nd Ave. North, Wahpeton, ND.

• North Dakota State Library, 603 East Blvd. Ave., Bismarck, ND.

• Standing Rock Administrative Service Center, Bldg. #1, North Standing Rock Avenue, Fort Yates, ND.

• West Fargo Public Library, 109 3rd Street East, West Fargo, ND.

South Dakota

• Bureau of Indian Affairs, Sisseton Agency, Veterans Memorial D, Agency Village, SD.

• South Dakota State Library, 800 Governors Drive, Pierre, SD.

Province of Manitoba

• Millennium Library, 251, Donald Street, Winnipeg, Manitoba, Canada.

Province of Ontario

• Kenora Branch Library, 24 Main Street South, Kenora, Ontario, Canada.

Our practice is to make comments, including names, home addresses, home phone numbers, and e-mail addresses of respondents, available for public review. Individual respondents may request that we withhold their names and/or home addresses, etc., but if you wish us to consider withholding this information you must state this prominently at the beginning of your comments. In addition you must present a rationale for withholding this information. The rationale must demonstrate that the disclosure would constitute a clearly unwarranted invasion of privacy. Unsupported assertions will not meet this burden. In the absence of exceptional, documentable circumstances, this information will be released. We will always make submissions for organizations or businesses, and from individuals identifying themselves as representatives or officials of organizations or businesses, available for public inspection in their entirety.

Dated: January 8, 2007.
Michael J. Ryan,
Regional Director, Great Plains Region.

[FR Doc. E7-1774 Filed 2-8-07; 8:45 am]

BILLING CODE 4310-MN-P